DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of November 2 through November 13, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations For Worker Adjustment Assistance

The following certifications have been issued. The date following the company name and location of each determination references the impact date for all workers of such determination.

The following certifications have been issued. The requirements of Section 222(a)(2)(A) (increased imports) of the Trade Act have been met.

TA-W-70,545; Truck-Lite Company, Inc., Leased Workers from Adecco, Falconer, NY: May 8, 2008.

TA-W-70,564; Gemeinhardt, LLC, Elkhart, IN: May 20, 2008.

TA-W-70,879; Reynolds Consumer Products, Weyauwega Plant, d/b/a/Presto, Weyauwega, WI: June 2, 2008.

TA-W-71,485; Albaugh, Inc., Leased Workers—Imko, Aerotek, Austin Nichols, and Lab Tech, St. Joseph, MO: June 23, 2008.

TA-W-71,539; Plum Creek, Plum Creek Timber Company, Inc., LC Staffing, Columbia Falls, MT: July 1, 2008.

TA-W-70,034; Vaagen Bros. Lumber, Inc., Leased Workers from Integrated Personnel, Colville, WA: May 18, 2008.

TA-W-70,418; Pentair Water Pool and Spa, Acutrol Division, Auburn, CA: May 19, 2008.

TA-W-70,526; Kennametal, Inc., Lyndonville, VT: May 18, 2008.

TA-W-70,765; Nova Chemicals Inc, Performance Styrenics Division, Leased Workers from Allied Barton Security, Monaca, PA: May 20, 2008.

TA-W-71,458; FormTech Industries, LLC, Detroit, MI: June 26, 2008.

TA-W-71,983; Weber Automotive Corporation, Leased Workers from Spherion and Johnson SVS Group, Summerville, SC: August 4, 2008.

TA-W-72,047; Mark Two Engineering, Inc., Aerotek, Medley, FL: August 13, 2008.

TA-W-72,440; Wheatland Tube Company, Sharon, PA: July 22, 2009.

TA-W-71,035; Prestige Printing, J.L. Wauford, Inc./Leased from Kelly Services and Randstad USA, Madison, TN: June 5, 2008.

TA-W-70,189; Signature Aluminum, Inc., Greenville, PA: May 18, 2008.

TA-W-70,396; U.S. Steel Tubular Products, Wheeling Machine Products Division, Pine Bluff, AR: May 19, 2008.

The following certifications have been issued. The requirements of Section 222(a)(2)(B) (shift in production or services) of the Trade Act have been met.

TA-W-70,398; Cessna Aircraft Company, A Division of Textron, Leased Workers From Express Professional Staffing, Bend, OR: May 18, 2008.

TA-W-70,453; Flextronics International, Limited, Leased Workers From Arotex, Flexicorps, Industrial Staffing, Elk Grove Village, IL: May 20, 2008.

TA-W-70,916; Agilent Technologies, Digital Test, Independent Contractors & Leased Workers Johnson Controls & Volt, Colorado Springs, CO: June 1, 2008.

TA-W-70,972; Amphenol Backplane Systems, Amphenol Corp., Microtech and Accountemps, Nashua, NH: June 1, 2008.

TA-W-70,984; Keihin IPT Manufacturing, Inc., Keihin NA, Formerly KIPT, Now KNA, Leased Workers from Spartan Staffing, Greenfield, IN: June 2, 2008.

TA-W-71,094; Duro Textiles, LLC, Duro Finishing and Duro Textile Printers, Leased Workers From Olsten Staffing, Fall River, MA: May 5, 2009.

TA-W-71,355; Hollingsworth and Vose Company, Hawkinsville Division, Willstaff Worldwide, Hawkinsville, GA: June 10, 2008.

TA-W-71,395; Startek USA, Inc., Subsidiary of Startek, Lynchburg, VA: June 24, 2008.

TA-W-71,402; The Timken Company, Leased Workers from Adecco and Megaforce, Randleman, NC: June 23, 2008.

TA-W-71,431; Sealing Products Manufacturing, LLC, Dana Holding Corporation, LLC, ADECCO, Danville, KY: June 24, 2008.

TA-W-71,478; United States Gypsum, Santa Fe Springs Plant, Santa Fe Springs, CA: June 29, 2008.

TA-W-71,480; Hydro Aluminum Precision Tubing North America, Adrian, MI: June 26, 2008.

TA-W-71,530; Nordson Corporation, Leased Workers from Kelly Services, Robert Half Management, Amherst, OH: July 1, 2008.

TA-W-71,755; Bose Corporation, Park Place Manufacturing, Leased Workers from Randstad, Framingham, MA: July 17, 2008.

TA-W-72,069; Rennoc Corporation, Vineland, NJ: August 18, 2008.

TA-W-72,099; Motorola Inc., Government and Public Safety Division, Schaumburg, IL: August 20, 2008.

TA-W-72,167; Shorewood Packaging, Newport News, VA: August 25, 2008.

TA-W-72,169; NuTec Tooling Systems, Inc., Leased Workers from Career Concepts, Meadville, PA: August 28, 2008.

TA-W-72,199; Littelfuse LP, Leased Worker of Aerotek, Inc., Irving, TX: September 1, 2008.

TA-W-72,244; Control Logic, Inc., Connelly Springs, NC: August 28, 2008.

TA-W-72,263; The H and H Trailer Company, Kingman Division, Kingman, AZ: September 8, 2008.

TA-W-72,353; Philips Respironics, Royal Phillips Electronics Inc., Leased Workers of Qualcomm Inc., Bend, OR: September 17, 2009.

TA-W-72,395; 3M/Southbridge, Leased Workers from Coworx Staffing Services, Southbridge, MA: September 17, 2008.

TA-W-72,469; Magal-Senstar, Inc., Division of Magal Security Systems, Fremont, CA: September 30, 2008.

TA-W-72,500; Hardinge, Inc., Leased Workers of Manpower, Elmira, NY: September 29, 2008.

TA-W-72,503; Sycamore Networks, Inc., Silvx Network Management Software, Chelmsford, MA: November 25, 2008.

TA-W-72,561; United Tool and Plastics, Inc., Waynesboro, VA: October 8, 2008.

TA-W-70,151; Smith and Nephew, Inc., Wound Management—Largo Div./Leased Workers of Olsten Staffing, Largo, FL: May 4, 2008.

TA-W-70,433; Weyerhaeuser NR, I-Level Division, Buckhannon, WV: May 18, 2008.

TA-W-70,900; Acushnet Company, Leased Workers from Marquee Staffing, Carlsbad, CA: June 1, 2008.

TA-W-71,125; Intra Corporation, Westland, MI: June 10, 2008.

TA-W-71,225; Dura Automotive Systems, Seats Division, Leased Workers from Furst Staffing, Stockton, IL: June 5, 2008.

TA-W-71,259; Cooper Tools, Inc., Cooper Power Tools Division, Cooper Industries, Dayton, OH: June 22, 2009.

TA-W-72,093; Atlantic Guest, Inc., Actuant Company, Berlin, CT: August 19, 2008.

TA-W-72,133; North American Pulp Molding, LLC, Luberski, Inc/dba Hidden Villa Ranch, Haynesville, LA: August 25, 2008.

TA-W-70,403; IBM Corporation, Global Business Services, El Segundo, CA: May 18, 2008.

TA-W-70,916A; Agilent Technologies, Digital Test, Independent Contractors & Leased Workers Johnson Controls & Volt, Santa Rosa, CA: June 1, 2008.

TA-W-71,031; International Business Machines Corp. (IBM), Global Business Services, ABB Account, Endicott, NY: May 20, 2008.

TA-W-71,243; ACS Commercial Solutions, Inc., Affiliated Computer Services, Business Processing Solutions Group, Lexington, KY: June 3, 2008.

TA-W-71,905; Accenture LLP, Randstad, MIR Mitchell & Co., Dayton, OH: July 30, 2008.

TA-W-72,195; Experian, Global Technology Services Division, Leased Workers of Tapfin, Costa Mesa, CA: September 1, 2008.

TA-W-72,272; Mitsubishi Motors R and D of America, Inc., Mitsubishi Motors North America, Technicon Int'l, Ann Arbor, MI: September 5, 2008.

TA-W-72,468; EDAG, Inc., Leased Workers from Partner Personnel, Inc., Auburn Hills, MI: September 30, 2008.

TA-W-72,491; Commerce Energy, Inc., Just Energy, Leased Workers from Accountants International, etc., Costa Mesa, CA: October 2, 2008.

TA-W-70,919; The Stride Rite Corporation, IT Solutions Delivery, Lexington, MA: June 1, 2008.

TA-W-71,493; Evergreen Shipping Agency (America) Corporation, Leased Workers of Talent Tree, Inc., Charleston, SC: June 30, 2008.

TA-W-71,507; Eastman Kodak, Graphics Communication Group, Adecco, Norwalk, CT: June 30, 2008.

TA-W-71,907; Allstate Insurance Company, Allstate Service Info., Kelly Services, Diamond Bar, CA: August 3, 2008.

TA-W-71,924; Allstate Insurance Company, Allstate Motor Club Division, South Barrington, IL: July 31, 2008.

TA-W-72,048; FLSmidth, Inc., Cement Div., Leased Workers of Aerotek Contract, Engineering, Allied Personnel, Bethlehem, PA: August 14, 2008.

TA-W-72,480; Interdent Service Corporation, Central Business Office/Billing and Collections Department, Vancouver, WA: September 29, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,143A; JL French Automotive Castings LLC, On-Site Leased Workers From Quality Personnel, Glasgow, KY: May 18, 2008.

TA-W-70,143; JL French Automotive Castings LLC, On-Site Leased Workers From Labor Ready, Sheboygan, WI: May 18, 2009.

TA-W-70,457; Core Manufacturing, Multi-Plastics, Inc., Division Sipco, Inc., M-Ploy, Saegertown, PA: May 20, 2008.

TA-W-70,481; Kaiser Aluminum Fabricated Products, LLC, Richmond, VA: May 21, 2008.

TA-W-70,611; Janesville Acoustics, A Unit of Jason, Inc., Norwalk, OH: May 22, 2008.

TA-W-70,773; Microfibres, Inc., Pawtucket, RI: April 24, 2009.

TA-W-70,782; BASF, Coatings Division, Leased Workers from Adecco, Greenville, OH: May 20, 2008.

TA-W-70,824; Bridgestone APM Company, Findlay, OH: May 29, 2008.

TA-W-70,885; Neff-Perkins Company, Perry Facility, Perry, OH: May 28, 2008.

TA-W-70,992; United Machine Works, Inc., Greenville, NC: May 26, 2008.

TA-W-71,101; Stroh Die Casting Company, Inc, Milwaukee, WI: June 5, 2008.

TA-W-71,127; Lear Corporation, Seating Systems Division, Lordstown, OH: June 9, 2008.

TA-W-71,706; Daimler Trucks North America, LLC, Gastonia Components and Logistics, Gastonia, NC: July 15, 2008.

TA-W-71,725; Caterpillar, Inc., Large Power Systems Division, Mossville, IL: July 6, 2008.

TA-W-72,223; Axletech International, Subsidiary of General Dynamics, Oshkosh, WI: August 31, 2008.

TA-W-72,324; Katahdin Paper Company, Pulp Mill, East Millinocket, ME: September 15, 2008.

TA-W-70,660; Gold Canyon Mining and Construction, LLC, Apache Junction, AZ: May 20, 2008.

TA-W-70,687; Marmon/Keystone Corporation, Marmon Distribution Services, LLC, East Butler Division, Butler, PA: May 21, 2008.

TA-W-71,444; Applied Materials, Inc., Leased Workers from K2 Associates and Nstar, Rio Rancho, NM: June 25, 2008.

The following certifications have been issued. The requirements of Section 222(c) (downstream producer for a firm whose workers are certified eligible to apply for TAA) of the Trade Act have been met.

TA-W-71,011; Cadon Acquisitions, LLC, Cadon Plating and Coatings, Phoenix Personnel, Wyandotte, MI: June 3, 2008.

The following certifications have been issued. The requirements of Section 222(f) (firms identified by the International Trade Commission) of the Trade Act have been met.

TA-W-71,425; US Steel Corporation, Fairfield, AL: July 21, 2007.

Insert C-ITC.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W-70,356; Ford Motor Company, Powertrain Test Laboratories, Dearborn, MI.

TA-W-70,389; Stanley Access Technologies, Farmington, CT.

TA-W-71,382; Nortech Systems, Inc., Intercon 1 Division, Baxter, MN.

TA-W-71,383; Nortech Systems, Inc., Aerospace Systems Division, Wayzata, MN.

TA-W-72,325; C and K Powder Coating, Ebensburg, PA.

The investigation revealed that the criteria under paragraphs (a)(2)(A)(i) (decline in sales or production, or both) and (a)(2)(B) (shift in production or services to a foreign country) of section 222 have not been met.

None.

The investigation revealed that the criteria under paragraphs(a)(2)(A) (increased imports) and (a)(2)(B) (shift in production or services to a foreign country) of section 222 have not been met.

TA-W-70,664; Signature Aluminum, Temroc Hamel Division, Hamel, MN.

TA-W-70,715; Broan-Nutone, LLC, Hartford, WI.

TA-W-70,800; MeadWestvaco Corporation, Consumer and Office Products Div., Enfield, CT.

TA-W-70,827; FormTech Industries, LLC, Minerva Division, Minerva, OH.

TA-W-70,861; Parkdale America, LLC, Plant #29, Sanford, NC.

TA-W-70,906; Windsor Republic Door, Inc., Republic Doors and Frames Div., Manpower, Hamilton, McKenzie, TN.

TA-W-71,024; Idaho Ethanol Processing, LLC, ED&F Man Biofuels, Caldwell, ID.

TA-W-71,375; AK Steel Corporation, Mansfield Works Division, Mansfield, OH.

TA-W-71,384; Nortech Systems, Inc., Aerospace Systems Division, Leased Workers of Doherty Staffing Solutions, Fairmont, MN.

TA-W-71,954; National Envelope Corporation, Long Island City, NY.

TA-W-72,039; PolyVision Corporation, Leased Workers of Spherion Company, Dixonville, PA.

TA-W-72,205; Charles Conkle Motor Company, Inc., Kokomo, IN.

TA-W-72,231; Lonza Inc., Riverside, Synthesis Section, Custom Mfg, Lab Support, Conshohocken, PA.

TA-W-70,038; ABF Freight Systems, Subsidiary of Arkansas Best Corp., Dayton, OH.

TA-W-70,282; J.W. Pike LTD/Vintage Verandah, Inc., Kalispell, MT.

TA-W-70,743; General Motors Corporation, Powertrain Central, Advanced Mechanical Engineering, Pontiac, MI.

TA-W-70,872; Mars Petcare US, Inc., Mars Incorporated, McKenzie, TN.

TA-W-71,835; FracTech Services, Cisco, TX.

TA-W-71,918; Eberly Originals Ltd., Newton, NJ.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of November 2 through November 13, 2009. Copies of these determinations are available for inspection in Room N-5428, U.S. Department of Labor, 200 Constitution Avenue, NW., Washington, DC 20210 during normal business hours or will be mailed to persons who write to the above address.

Dated: January 13, 2010.
Elliott S. Kushner,
Certifying Officer, Division Of Trade Adjustment Assistance.

[FR Doc. 2010-1312 Filed 1-22-10; 8:45 am]

BILLING CODE 4510-FN-P